DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 27, 2016.

Address Comments to: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: Copies of the applications are available for inspection in the Records Center, East Building, PHH-30, 1200 New Jersey Avenue SE., Washington DC or at http://regulations.gov.

This notice of receipt of applications for special permit is published in accordance with part 107 of the Federal hazardous materials transportation law (49 U.S.C. 5117(6); 49 CFR 1.53(b)).

Issued in Washington, DC, on May 11, 2016.
Donald Burger,
Chief, Office of the Special Permits and Approvals.

Special Permits Data
Application No. | Docket No. | Applicant | Regulation(s) affected | Nature of the special permits thereof
11180-M |  | AFFIVAL INC | Part 172 Subparts D, E, and F, 173.24(c), Part 173 Subparts E and F | To modify the special permit to authorize metal tubes with a decreased diameter and an increased length to be authorized under the special permit.
12440-M |  | LUXFER INC | 173.301(a)(1), 173.302a, 173.304a, 180.205(a) | To modify the special permit to authorize a change in the maximum diameter for authorized cylinders.
15852-M |  | NUANCE MEDICAL, LLC | 173.304a (a)(1), 173.306(a) | To modify the special permit to authorize more than 24 containers per outer package.
16371-M |  | VOLKSWAGEN GROUP OF AMERICA, INC | 173.185(b) | To modify the permit to reflect the correct part number of the authorized battery.
16474-M |  | RETRIEV TECHNOLOGIES INC | 172.102(c)(1) Special Provision 130, Part 172 Subparts C, D, and E, 173.185(c), 173.185(d) | To modify the special permit to authorize lithium metal batteries with a lithium content greater than 5 grams.

[FR Doc. 2016-11981 Filed 5-26-16; 8:45 am]

BILLING CODE M